ENVIRONMENTAL PROTECTION AGENCY

[OECA-2005-0052; FRL-7963-5]

Agency Information Collection Activities; Submission to OMB for Review and Approval; Comment Request; Enforcement Policy Regarding the Sale and Use of Aftermarket Catalytic Converters (Renewal), EPA ICR Number 1292.07, OMB Control Number 2060-0135

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on August 31, 2005. Under OMB regulations, the Agency may continue to conduct or sponsor the collection of information while this submission is pending at OMB. This ICR describes the nature of the information collection and its estimated burden and cost.

DATES: Additional comments may be submitted on or before September 30, 2005.

ADDRESSES: Submit your comments, referencing docket ID number OECA-2005-0052, to (1) EPA online using EDOCKET (our preferred method), by e-mail to docket.oeca@epa.gov, or by mail to: Environmental Protection Agency, EPA Docket Center (EPA/DC), Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Jack McLaughlin, Office of Mobile Sources, Office of Enforcement and Compliance, U.S. EPA Western Field Office, 12345 West Alamdea Parkway, Suite #214, Lakewood, CO 80228; Telephone number: (303) 236-9513, Fax number: (303) 236-9514, E-Mail: mclaughlin.jackj@epa.gov.

SUPPLEMENTARY INFORMATION: EPA has submitted the following ICR to OMB for review and approval according to the procedures prescribed in 5 CFR 1320.12. On May 31, 2005 (70 FR 30941-30943), EPA sought comments on this ICR pursuant to 5 CFR 1320.8(d). EPA received no comments on this notice.

EPA has established a public docket for this ICR under Docket ID No. OECA-2005-0052, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Enforcement Policy Regarding the Sale and Use of Aftermarket Catalytic Converters (Renewal)

Abstract: Section (a)(3) of the Clean Air Act (Act) prohibits removing or rendering inoperative automobile emission control devices or elements of design. But for the adoption of the aftermarket catalytic converter enforcement policy (51 FR 28814-28819, 28133 (August 5, 1986); 52 FR 42114 (November 3, 1987) ), 67 FR 319 (January 3, 2002) the manufacture, sale or installation of aftermarket catalytic converters (catalysts) not equivalent to new original equipment (OE) catalysts would constitute a violation of the Act. However, because replacement OE catalysts are expensive, many consumers had elected to not replace catalysts that malfunctioned subsequent to the expiration of the emissions warranty on their vehicles. The Agency believes that allowing the installation of aftermarket catalysts on older vehicles can be environmentally beneficial if the Agency can be assured that the aftermarket catalysts meet certain standards and if installers are accountable to select the proper aftermarket catalyst for each vehicle application. Manufacturers of new aftermarket catalysts are required on a one time basis, for each catalyst line manufactured, to identify the catalyst physical specifications and summarize pre-production testing of the prototype. Previously, manufacturers were required to submit semi-annual reports to EPA of the number of each type of catalytic converter manufactured and a summary (or copies at manufacturer's option) of warranty card information. These requirements are both discontinued. The information would still have to be retained for 5 years, and would be subject to EPA inspection. A technical change is being made to clarify the existing requirement that converters be labeled, specifically that information affixed to the converters appears on the underside so that it can be seen after the converter is installed.

Reconditioners of used catalysts must, on a one-time basis, identify themselves and provide information regarding their converter testing equipment and procedures followed when testing used catalysts. All used catalytic converters must be individually bench-tested. The requirement to submit semi-annual reports to EPA disclosing the identity of persons who distribute the reconditioned catalysts and the number of reconditioned catalysts of each type that are sold to each distributor is discontinued.

Companies that install aftermarket catalysts have no reporting requirements but must keep copies of installation invoices and records for 6 months that show the reason an aftermarket catalyst installation was permissible. A technical change is made to note that the warranty period for the Original Equipment Manufacturer (OEM) converter originally installed on the vehicle is 8 years/80,000 miles starting with the 1995 model year. Therefore, aftermarket or reconditioned converters generally cannot be installed on such vehicles until the vehicles are at least 8 (eight) years old, or have accumulated 80,000 miles of service life. Removed catalysts must be tagged with identifying information and be retained for 15 days. EPA allows the use of pre-printed documents or computer generated documents. All the record keeping under the policy is authorized by section 114 of the Act, 42 U.S.C. 7414 and section 208 of the Act, 42 U.S.C. 7542 and is a mandatory condition for participation in this voluntary alternative program to manufacturing catalytic converters equivalent to OE. Not complying with the record keeping and remaining reporting requirements would violate section 203(a)(3) of the Act, 42 U.S.C. 7522(a)(3). Parties who comply with these policies are allowed to install aftermarket catalysts instead of OE catalytic converters. Confidentiality provisions are found at 40 CFR part 2. These requirements have been in effect for over 19 years. Startup costs have been completed.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 7 hours per response for the three categories of respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers, reconditioners, and installers of aftermarket and/or reconditioned automotive catalytic converters.

Estimated Number of Respondents: 30,014.

Frequency of Response: On occasion.

Estimated Total Annual Hour Burden: 212,101 hours.

Estimated Total Annual Cost: $8,725,189, which includes $285,824 annualized capital/startup costs, $390,064 annual O&M costs, and $8,049,201 annual labor costs.

Changes in the Estimates: There is an increase of 100,793 hours in the total estimated burden currently identified in the OMB Inventory of Approved ICR Burdens. The increase is due to an error in calculations in the previous ICR, and not an actual increase in respondent burden hours. A combination of errors in calculations in the previous ICR (67 FR 319-320, Jan. 3, 2002) led to the annual burden hours for installers being represented as 3.5 hours/year, rather than 7 hours/year. Spread over 30,000 installer respondents this led to a shortfall of 104,000 burden hours. This figure has been correctly calculated in this ICR renewal. There is, therefore, no increase in burden hours to the industry, rather the correction of a previous error which accounts for the higher burden hour numbers.

Dated: August 25, 2005.
Oscar Morales,
Director, Collection Strategies Division.

[FR Doc. 05-17366 Filed 8-30-05; 8:45 am]

BILLING CODE 6560-50-P